DEPARTMENT OF THE INTERIOR

Bureau of Land Management

[WO-880-9500-PF-24 1A]

Extension of Approved Information Collection, OMB Approval Number 1004-0109

AGENCY: Bureau of Land Management, Interior.

ACTION: Notice and request for comments.

SUMMARY: In accordance with the Paperwork Reduction Act of 1995, the Bureau of Land Management (BLM) requests the Office of Management and Budget (OMB) to extend an existing approval to collection information from the Governors of States to allow the BLM to compute units of payments due to local governments under the Payments In Lieu of Taxes (PILT) Act of September 13, 1982, as amended. The nonform information we collect under 43 CFR part 1881 helps local governments recover some of the expenses incurred by providing services on public lands.

DATES: You must submit your comments to BLM at the address below on or before October 4, 2002. BLM will not necessarily consider any comments received after the above date.

ADDRESSES: You may mail comments to: Regulatory Affairs Group (WO-630), Eastern States Office, 7450 Boston Blvd., Springfield, Virginia 22153.

You may send comments via Internet to: WOComment@blm.gov. Please include “ATTN: 1004-0109” and your name and address with your comments.

You may deliver comments to the Bureau of Land Management, Administrative Record, Room 401, 1620 L Street, NW, Washington, DC.

Comments will be available for public review at the L Street address during regular business hours (7:45 a.m. to 4:15 p.m.) Monday through Friday.

FOR FURTHER INFORMATION CONTACT: You may contact Bill Howell, Budget Group, on (202) 452-7721 (Commercial or FTS). Persons who use a telecommunication device for the deaf (TDD) may call the Federal Information Relay Service (FIRS) on 1-800-877-8330, 24 hours a day, seven days a week, to contact Mr. Howell.

SUPPLEMENTARY INFORMATION: 5 CFR 1320.12(a) requires that we provide a 60-day notice in the Federal Register concerning a collection of information to solicit comments on:

(a) Whether the collection of information is necessary for the proper functioning of the agency, including whether the information will have practical utility;

(b) the accuracy of our estimates of the information collection burden, including the validity of the methodology and assumptions we use;

(c) ways to enhance the quality, utility, and clarity of the information collected; and

(d) ways to minimize the information collection burden on those who are to respond, including the use of appropriate automated, electronic, mechanical, or other technological collection techniques or other forms of information technology.

BLM makes payments in lieu of taxes to units of local governments for certain Federal lands within their boundaries through authority provided under the Payment in Lieu of Taxes Act of October 20, 1976 (90 Stat. 2662, 31 U.S.C. 6901-6907). The implementing regulations (43 CFR part 1881) require the Governor of each State to furnish BLM with a listing of payments made to local governments by the State on behalf of the Federal Government under 11 receipt-sharing statutes. BLM provides the States with a printout matrix designed to facilitate recording the requested information. BLM uses the information provided by the States to compute the PILT payments to local governments within the State.

Based on BLM's experience in administering the PILT program, we estimate the public reporting burden is 20 hours. The respondents already maintain this information for their own record keeping purposes and need only transfer the information to the printout matrix that BLM will provide. The respondents are offices designated by the Governor of each State, usually the Treasurer's Office. The frequency of response is once annually, reporting on the previous fiscal year revenues. The number of responses per year is 50. We estimate the total annual burden is 1,000 hours.

BLM will summarize all responses to this notice and include them in the request for OMB approval. All comments will become a matter of public record.

Dated: July 11, 2002.
Michael H. Schwartz,
Bureau of Land Management, Information Collection Clearance Officer.

[FR Doc. 02-19664 Filed 8-2-02; 8:45 am]

BILLING CODE 4310-84-M